DEPARTMENT OF TRANSPORTATION

National Highway Traffic Safety Administration

[Docket No. NHTSA-2002-3512]

Reports, Forms, and Recordkeeping Requirements

ACTION: Request for public comment on proposed collections of information.

SUMMARY: Before a Federal agency can collect certain information from the public, it must receive approval from the Office of Management and Budget (OMB). Under new procedures established by the Paperwork Reduction Act of 1995, before seeking OMB approval, Federal agencies must solicit public comment on proposed collections of information, including extensions and reinstatements of previously approved collections.

This document describes a collection of information for which NHTSA intends to seek OMB approval.

DATES: Comments must be received on or before February 7, 2003.

ADDRESSES: Comments must refer to the docket and notice numbers cited at the beginning of this notice and be submitted to the Docket Section, Room PL401, 400 Seventh Street, SW., Washington, DC 20590. Please identify the proposed collection of information for which a comment is provided by referencing its OMB Clearance Number. It is requested, but not required, that 1 original plus 2 copies of the comments be provided. The Docket Section is open on weekdays from 9:30 a.m. to 4 p.m.

FOR FURTHER INFORMATION CONTACT: Complete copies of each request for collection of information may be obtained at no charge from Mr. Glenn Karr, NHTSA, 400 Seventh Street, SW., Room 6124, Washington, DC 20590. Mr. Karr's telephone number is (202) 366-4800. Please identify the relevant collection of information by referring to its OMB Clearance Number.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following proposed collection of information:

National Driver Register Reporting and Inquiry Requirement for 23 CFR Part 1327

Type of Request—Extension of Clearance.

OMB Clearance Number—2127-0001.

Form Number—This collection of information uses no standard form.

Summary of the Collection of Information—Chapter 303 of Title 49, U.S.C. requires the Secretary of Transportation to establish and maintain a National Driver Register to assist chief driver licensing officials of participating states in exchanging information about the motor vehicle driving records of individuals. The chapter requires the chief driver licensing official of each participating state to submit a report to the Secretary of each individual who is denied a motor vehicle operator's license by that State for cause; whose motor vehicle operator's license is revoked, suspended, or cancelled by that State for cause; or who is convicted under the laws of that State of any of the following motor vehicle-related offenses or comparable offenses: (a) Operating a motor vehicle while under the influence of, or impaired by, alcohol or a controlled substance; (b) a traffic violation arising in connection with a fatal traffic accident, reckless driving, or racing on the highways; (c) failing to give aid or provide identification when involved in an accident resulting in death or personal injury; (d) perjury or knowingly making a false affidavit or statement to officials about activities governed by a law or regulation on the operation of a motor vehicle. It also requires the chief driver licensing official of each participating state to submit an inquiry to the NDR on all applicants for a motor vehicle operator's license, or for renewal of a license, before issuing a motor vehicle operator's license to the applicant. In addition, the Commercial Motor Vehicle Safety Act of 1986 requires the states to submit an inquiry to the NDR for each applicant for commercial driver's license. Respondents may submit the transactions interactively, which creates no burden for the respondent, or in batches which require some manual preparations.

Description of the need for the information and proposed use of the information—The purpose of the NDR, and thus this information collection activity, is to improve traffic safety by serving as a clearinghouse for State driver licensing officials to obtain driver record information about individuals applying for driver's licenses. It assists the driver licensing officials in making the decision about whether to license an individual to operate a motor vehicle. Through amendments to the NDR statute, the activity also serves to prevent the certification of airline pilots, merchant mariners, and locomotive operators, and individuals from being employed as motor vehicle operators and pilots, if they are problem drivers.

The information will be used by NHTSA in exercising its statutory authority to operate the NDR. Without this information, states could issue licenses to individuals who are suspended or revoked in other states.

Description of Likely Respondents (including estimated number and proposed frequency of response to the collection of information)—The respondents are the 51 State driver licensing agencies, including the District of Columbia. Typically, information systems personnel process the reports and inquiries that are submitted to the NDR. The frequency of response for reports varies from daily to monthly. The frequency of response for inquiries is daily.

Estimate of the Total Annual Reporting and Recordkeeping Burden Resulting from the Collection of Information—The agency estimates the annual reporting burden for this year will be 1979 hours at a cost of $29,225 for the 51 jurisdictions. The cost estimate is based on typical information systems employees' salaries and related expenses.

Authority: 49 U.S.C. 30304; delegation of authority at 49 CFR 1.50

Dated: November 19, 2002.
Raymond P. Owings,
Associate Administrator for Advanced Research and Analysis.

[FR Doc. 02-31043 Filed 12-6-02; 8:45 am]

BILLING CODE 4910-59-P